DEPARTMENT OF COMMERCE

National Oceanic and Atmospheric Administration

[RTID 0648-XE629]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Climate and Ecosystem Steering Committee to consider actions affecting New England fisheries in the exclusive economic zone (EEZ). This meeting will be held in-person with a webinar option. Recommendations from this group will be brought to the full Council for formal consideration and action, if appropriate.

DATES: This webinar will be held on Thursday, February 13, 2025, at 9 a.m.

ADDRESSES:

Meeting address: This meeting will be held at Doubletree by Hilton, 11 Beaver Street, Milford, MA 01757; telephone: (508) 478-7010.

Webinar registration URL information: https://nefmc-org.zoom.us/meeting/register/0LNZkFUzQSScS8YgkORkTA.

Council address: New England Fishery Management Council, 50 Water Street, Mill 2, Newburyport, MA 01950.

FOR FURTHER INFORMATION CONTACT: Cate O'Keefe, Ph.D., Executive Director, New England Fishery Management Council; telephone: (978) 465-0492.

SUPPLEMENTARY INFORMATION:

Agenda

The Climate and Ecosystem Steering Committee will meet and introduce members and staff to each other. They will receive briefings on the following topics and discuss the role of the Steering Committee: The Council's Inflation Reduction Act-funded projects, NOAA's annual State of the Ecosystem report and its application to management decisions, and implementation of the Council's new Risk Policy.

They will also discuss the role of the Steering Committee in supporting the Council's participation in the East Coast Climate Coordination Group (E3CG) and engaging with NOAA's Climate Ecosystems and Fisheries Initiative (CEFI). The Committee will agree on Committee operations (leadership, subgroups, evaluating success). They will also plan stakeholder outreach about the Council's regional climate initiatives. Other business will be discussed, if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Ph.D., Executive Director, at (978) 465-0492, at least 5 days prior to the meeting date.

Authority: 16 U.S.C. 1801 et seq.

Dated: January 23, 2025.
Rey Israel Marquez,
Acting Deputy Director, Office of Sustainable Fisheries, National Marine Fisheries Service.

[FR Doc. 2025-01842 Filed 1-28-25; 8:45 am]

BILLING CODE 3510-22-P